OFFICE OF THE UNITED STATES TRADE REPRESENTATIVE

Notice of Conforming Amendments to Previously Reinstated Exclusions: China's Acts, Policies, and Practices Related to Technology Transfer, Intellectual Property, and Innovation

AGENCY: Office of the United States Trade Representative (USTR).

ACTION: Notice.

SUMMARY: Effective July 1, 2023, the U.S. International Trade Commission (USITC) implemented certain changes to statistical reporting categories in the Harmonized Tariff Schedule of the United States (HTSUS). As a result of these changes, USTR is making conforming amendments to two previously reinstated exclusions associated with the Section 301 investigation of China Acts, Policies, and Practices Related to Technology Transfer, Intellectual Property, and Innovation.

DATES: The conforming amendments in the Annex to this notice are effective on July 1, 2023. CBP will issue instructions on entry guidance and implementation.

FOR FURTHER INFORMATION CONTACT: For general questions about this notice, contact Associate General Counsel Philip Butler or Assistant General Counsel Rachel Hasandras at (202) 395-5725. For specific questions on customs classification or implementation of the product exclusion identified in the Annex to this notice, contact traderemedy@cbp.dhs.gov.

SUPPLEMENTARY INFORMATION:

A. Background

Effective July 1, 2023, the USITC implemented certain changes to ten-digit statistical reporting categories of the HTSUS in accordance with its responsibility under section 484(f) of the Tariff Act of 1930, 19 U.S.C. 1484(f). Two of the previously reinstated exclusions in the Section 301 investigation of China's Acts, Policies, and Practices Related to Technology Transfer, Intellectual Property, and Innovation, as set out at 87 FR 17380 (March 28, 2022), are affected by the amended statistical reporting categories.

B. Conforming Amendments to Exclusions

To maintain the pre-existing product coverage of the China 301 actions, conforming amendments to the corresponding note provisions in the HTSUS are required. The Annex to this notice conforms two existing product exclusions with the July 1, 2023 changes to ten-digit statistical reporting categories in the HTSUS. In particular, the Annex makes conforming amendments to U.S. notes 20(ttt)(iii)(73) and 20(ttt)(iii)(74) to subchapter III of chapter 99 of the HTSUS, as set out in the Annexes of the notice published at 87 FR 17380 (March 28, 2022).

Annex

A. Effective with respect to goods entered for consumption, or withdrawn from warehouse for consumption, on or after 12:01 a.m. eastern daylight time on July 1, 2023 and before 11:59 p.m. eastern daylight time on September 30, 2023, note 20(ttt)(iii)(73) to subchapter III of chapter 99 of the HTSUS is amended by deleting “(described in statistical reporting number 6802.99.0060) and by inserting “(described in statistical reporting number 6802.99.0060 prior to July 1, 2023; described in statistical reporting number 6802.99.0090 effective July 1, 2023)” in lieu thereof.

B. Effective with respect to goods entered for consumption, or withdrawn from warehouse for consumption, on or after 12:01 a.m. eastern daylight time on July 1, 2023 and before 11:59 p.m. eastern daylight time on September 30, 2023, note 20(ttt)(iii)(74) to subchapter III of chapter 99 of the HTSUS is amended by deleting “(described in statistical reporting number 6802.99.0060) and by inserting “(described in statistical reporting number 6802.99.0060 prior to July 1, 2023; described in statistical reporting number 6802.99.0090 effective July 1, 2023)” in lieu thereof.

Greta Peisch,
General Counsel, Office of the United States Trade Representative.

[FR Doc. 2023-15309 Filed 7-18-23; 8:45 am]

BILLING CODE 3390-F3-P